DEPARTMENT OF AGRICULTURE

Animal and Plant Health Inspection Service

[Docket No. APHIS-2008-0125]

Privacy Act System of Records; National Animal Health Laboratory Network (NAHLN)

AGENCY: Animal and Plant Health Inspection Service, USDA.

ACTION: Notice of a proposed new system of records; request for comment.

SUMMARY: The U.S. Department of Agriculture (USDA) proposes to add a new Privacy Act system of records to its inventory of records systems subject to the Privacy Act of 1974, as amended, and invites public comment on this new records system. The system of records being proposed is the National Animal Health Laboratory Network. This notice is necessary to meet the requirements of the Privacy Act to publish in the Federal Register notice of the existence and character of record systems maintained by the agency. Although the Privacy Act requires only that the portion of the system that describes “routine uses” of the system be published for comment, USDA invites comment on all portions of this notice.

DATES: Effective Date: This system will be adopted without further notice on October 18, 2010 unless modified to respond to comments received from the public and published in a subsequent notice. Comments must be received, in writing, on or before September 17, 2010.

ADDRESSES: You may submit comments by either of the following methods:

Federal eRulemaking Portal: http://www.regulations.gov/fdmspublic/component/main?main=DocketDetail&d-APHIS-2008-0125, and follow the instructions for submitting comments.

Postal Mail/Commercial Delivery: Docket No. APHIS-2008-0125, Regulatory Analysis and Development, PPD, APHIS, Station 3A-03.8, 4700 River Road Unit 118, Riverdale, MD 20737-1238.

Docket: You may view comments we receive at the Federal eRulemaking Portal (Web address above) or in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Barbara M. Martin, National Animal Health Laboratory Network Coordinator, National Veterinary Services Laboratories, Veterinary Services, APHIS, 1800 Dayton Avenue, Ames, IA 50010; (515) 663-7731.

SUPPLEMENTARY INFORMATION: The Privacy Act of 1974, as amended (5 U.S.C. 552a), requires agencies to publish in the Federal Register a notice of any new or revised system of records maintained by the agency. A system of records is a group of any records under the control of an agency, from which information is retrieved by the name of an individual or by some identifying number, symbol, or other identifying particular assigned to an individual.

The Animal and Plant Health Inspection Service (APHIS) of the U.S. Department of Agriculture (USDA) is proposing to add a new system of records, entitled National Animal Health Laboratory Network (NAHLN), which will be used to support activities conducted by the agency and maintain records pursuant to its missions and responsibilities authorized by the Animal Health Protection Act (7 U.S.C. 8301-8317); Public Health Security and Bioterrorism Preparedness and Response Act of 2002 (Pub. L. 107-188); Homeland Security Presidential Directive-7; and Homeland Security Presidential Directive-9.

The purpose of NAHLN is to coordinate and network USDA's National Veterinary Services Laboratories with the capacity, facilities, professional expertise, and support of State and university laboratories. The network provides an extensive infrastructure of facilities, equipment, and personnel that are geographically accessible in the event of an animal health emergency.

APHIS uses the NAHLN to enhance early detection of foreign animal disease agents and newly emerging diseases, to better respond to animal health emergencies (including bioterrorist events) that threaten the nation's food supply and public health, and to assist in assessing the nation's animal health status through surveillance and shared animal health diagnostic data.

The NAHLN contains personally identifiable information about the owner of or person having primary responsibility for an animal undergoing testing in a networked laboratory. Such information includes name; address, including city, county, State, postal code; name of organization, telephone and fax numbers; and e-mail address.

The NAHLN also contains information about employees of the networked laboratories. Such information may include name, work address, position, telephone number, and e-mail address; emergency contact information; and proficiency test results. Routine uses of records maintained in the system, including categories of users and the purposes of such uses.

APHIS may disclose information in the NAHLN system to Federal or State animal health officials to aid in containing and responding to a foreign animal disease outbreak, bioterrorism, or other animal health emergency, to evaluate response and surveillance activities, or to disseminate information and solicit feedback on emergency preparedness guidelines and the system itself for the purpose of educating and involving these officials in program development, program requirements, and standards of conduct. Other routine uses of this information include releases related to investigations pertaining to violations of law or related to litigation. A complete listing of the routine uses for this system is included in the accompanying document that is published along with this notice.

The proposed information collection devices associated with the NAHLN system have been submitted to the Office of Management and Budget for approval under the Paperwork Reduction Act.

Report on New System

A report on the new system of records, required by 5 U.S.C. 552a(r), as implemented by Office of Management and Budget Circular A-130, was sent to the Chairman, Committee on Homeland Security and Governmental Affairs, United States Senate; the Chairman, Committee on Oversight and Government Reform, House of Representatives; and the Administrator, Office of Information and Regulatory Affairs, Office of Management and Budget.

Dated: August 8, 2010.
Thomas J. Vilsack,
Secretary.

USDA-APHIS-#5

System name:

National Animal Health Laboratory Network (NAHLN).

Security classification:

None.

System location:

The data files for the NAHLN are maintained in the offices of Veterinary Services in Fort Collins, CO. A backup of the system is maintained at APHIS offices in Riverdale, MD.

Categories of individuals covered by the system:

Federal, State, and university veterinary diagnostic laboratory personnel, State and Federal animal health officials, and owners of animals undergoing testing in a networked laboratory.

Categories of records in the system:

Records may include laboratory identification, laboratory location, laboratory space, unique identifiers for laboratory submissions, purpose and reason for laboratory submissions, test methods, test equipment, test instruments, test results, and patient (animal) information.

For the owner or person having primary responsibility for an animal undergoing testing in a networked laboratory, the following information will be retained: First, middle and last name; telephone number and fax numbers; street address, city, State, postal code, country; name of organization; and e-mail address.

The information retained for employees of the networked laboratories includes name, work address, position, telephone number and e-mail address; emergency contact information; and proficiency test results.

Authority for maintenance of the system:

The Animal Health Protection Act, 7 U.S.C. 8301-8317; the Public Health Security and Bioterrorism Preparedness and Response Act of 2002 (Pub. L. 107-188); Homeland Security Presidential Directive-7; and Homeland Security Presidential Directive-9.

Purposes(s):

The purpose of NAHLN is to coordinate and network USDA's National Veterinary Services Laboratories with the capacity, facilities, professional expertise, and support of State and university laboratories. The network provides an extensive infrastructure of facilities, equipment, and personnel that are geographically accessible in the event of an animal health emergency.

Routine uses of records maintained in the system, including categories of users and the purposes of such uses:

In addition to those disclosures generally permitted under 5 U.S.C. 552a(b) of the Privacy Act, records maintained in the system may be disclosed outside USDA as follows:

(1) To Federal and State animal health officials to aid in containing and responding to a foreign animal disease outbreak, bioterrorism, or other animal health emergency;

(2) To cooperative Federal, State, and local government officials, employees, or contractors, and other parties engaged to assist in administering the program. This routine use assists the agency in carrying out the program, and thus is compatible with the purpose for which the records are created and maintained;

(3) To responsible Federal and State animal health officials to evaluate response and surveillance activities;

(4) To Federal and State animal health officials within the system to disseminate information and solicit feedback on emergency preparedness guidelines and the system itself for the purpose of educating and involving these officials in program development, program requirements, and standards of conduct;

(5) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(6) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(7) For use in a proceeding before a court or adjudicative body before which the agency is authorized to appear, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(8) To appropriate agencies, entities, and persons when the agency suspects or has confirmed that the security or confidentiality of information in the system of records has been compromised; the agency has determined that as a result of the suspected or confirmed compromise there is a risk of harm to economic or property interests, a risk of identity theft or fraud, or a risk of harm to the security or integrity of this system or other systems or programs (whether maintained by the agency or another agency or entity) that rely upon the compromised information; and the disclosure made to such agencies, entities, and persons is reasonably necessary to assist in connection with the agency's efforts to respond to the suspected or confirmed compromise and prevent, minimize, or remedy such harm;

(9) To USDA contractors, partner agency employees or contractors, or private industry employed to identify patterns, trends or anomalies indicative of fraud, waste, or abuse; and

(10) To the National Archives and Records Administration or to the General Services Administration for records management inspections conducted under 44 U.S.C. 2904 and 2906.

Disclosure to consumer reporting agencies:

None.

Policies and practices for storing, retrieving, accessing, retaining, and disposing of records in the system:

Storage:

Records are maintained on magnetic tape, optical disk, and mainframe. Paper records are maintained in offices that are locked after business hours and require the presentation of employee identification for admittance at all times. Backup media are taken weekly to an off-site storage facility and stored on tape.

Retrievability:

Records are retrieved by the specimen identification number, a barcoded alphanumeric number representing the type of specimen; a laboratory submission identification number generated from the submitting laboratory's information management system; or by laboratory employee information such as name, work address, position, telephone number and e-mail address, emergency contact information, proficiency test results, and authorization to perform various tests.

Safeguards:

The NAHLN system is subject to management, operational, and technical controls. Such controls include role-based access based on assigned responsibility for animal health; data encryption during transmission; configuration management; and physical and environmental protections. Each user's access is restricted based on the user's role, laboratory where employed, and region of assigned responsibility for animal health. All individuals provided access to the NAHLN system are required to complete annual information technology security awareness training.

Retention and disposal:

Electronic records are currently retained within the system for 50 years. Electronic records stored on NAHLN computer hard drives are backed up nightly. Incremental and full system tape backups are retained for one month. Backup media is regularly sent to an off-site backup storage facility for contingency purposes.

System manager(s) and address:

Chief Information Officer, Veterinary Services, Animal and Plant Health Inspection Service, 4700 River Road Unit 58, Riverdale, MD 20737.

Notification procedure:

Any individual may request general information regarding this system of records or information as to whether the system contains records pertaining to him/her from the system manager at the address above. All inquiries pertaining to this system should be in writing; must name the system of records as set forth in the system notice; and must contain the individual's name, telephone number, address, and e-mail address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

The information in the NAHLN comes primarily from USDA's National Veterinary Services Laboratories and State and university laboratories. Employee information is obtained primarily from the employee.

Exemptions claimed for the system:

None.

[FR Doc. 2010-20360 Filed 8-17-10; 8:45 am]

BILLING CODE 3410-34-P